DEPARTMENT OF VETERANS AFFAIRS

38 CFR Part 60

RIN 2900-AP45

Fisher Houses and Other Temporary Lodging

AGENCY: Department of Veterans Affairs.

ACTION: Final rule.

SUMMARY: The Department of Veterans Affairs (VA) is amending its regulations concerning Fisher House and other temporary lodging furnished by VA while a veteran is experiencing an episode of care at a VA medical facility. Such lodging is generally furnished at no cost to veterans' relatives, close friends, and caregivers, because VA's experience has shown that veterans' treatment outcomes are improved by having loved ones nearby. The final rule updates current regulations and better describes the application process for this lodging along with generally reflecting current VA policy and practice.

DATES: This final rule is effective July 10, 2017.

FOR FURTHER INFORMATION CONTACT: Jennifer Koget, National Fisher House and Family Hospitality Program Manager, Care Management and Social Work (10P4C), Veterans Health Administration, Department of Veterans Affairs, 810 Vermont Avenue NW., Washington, DC 20420, (202) 461-6780. (This is not a toll-free number.)

SUPPLEMENTARY INFORMATION: VA's program for providing temporary lodging for certain individuals is authorized by section 1708 of title 38, United States Code (U.S.C.). Under section 1708, VA “may furnish [certain] persons . . . with temporary lodging in a Fisher [H]ouse or other appropriate facility in connection with the examination, treatment, or care of a veteran under [chapter 17].” This authority to provide temporary lodging assists VA in providing appropriate treatment and care to veterans because patients often respond better when they are accompanied by relatives, close friends, or caregivers. Thus, providing temporary lodging can be an important element of a veteran's treatment. VA implemented its authority under section 1708 in 38 CFR part 60. The previous regulation no longer accurately described the process by which VA approved requests for Fisher House or other temporary lodging. This final rule amends the regulation to describe the current process.

Prior to January 26, 2016, VA employed VA Form 10-0408A as “the application for Fisher House and other temporary lodging.” On January 26, 2016, VA proposed to amend § 60.15 because the application process substantially changed. See 81 FR 4223. We discontinued use of this form in favor of a different process when accepting Fisher House requests. Now, VA requires those making requests to contact VA directly, so we may capture in the veteran's electronic health records all of the information the requester would have included on the form.

The new process has improved the efficiency of evaluating requests for Fisher House and other temporary housing for several reasons. VA facilities cannot practicably store paper forms, and electronic processing will save time and money compared to scanning paper forms into a veteran's medical record. Additionally, because the consult becomes part of the veteran's electronic health record, VA staff can view it when future requests for temporary housing are received. This will save time for the veteran, who will need to provide only updated information to VA staff, rather than having to complete a new form. Accordingly, we proposed amendments to § 60.15(a) by deleting reference to Form 10-0408A and replacing it with a description of the new process.

We provided a 60-day comment period, which ended on March 23, 2016. We received zero (0) comments on the proposed rule. Based on the rationale set forth in the proposed rule and in this document, VA is adopting the provisions of the proposed rule as a final rule with no changes as noted above.

Effect of Rulemaking

Title 38 of the Code of Federal Regulations, as revised by this final rulemaking, represents VA's implementation of its legal authority on this subject. Other than future amendments to this regulation or governing statutes, no contrary guidance or procedures are authorized. All existing or subsequent VA guidance must be read to conform with this rulemaking if possible or, if not possible, such guidance is superseded by this rulemaking.

Paperwork Reduction Act

This final rule contains no new provisions constituting a collection of information under the Paperwork Reduction Act (44 U.S.C. 3501-3521).

Regulatory Flexibility Act

The Secretary hereby certifies that this final rule will not have a significant economic impact on a substantial number of small entities as they are defined in the Regulatory Flexibility Act, 5 U.S.C. 601-612. This final rule will not cause a significant economic impact on health care providers, suppliers, or entities because the proposed rule will apply only to patients receiving care at VA facilities. Therefore, pursuant to 5 U.S.C. 605(b), this rulemaking is exempt from the initial and final regulatory flexibility analysis requirements of 5 U.S.C. 603 and 604.

Executive Order 12866, 13563 and 13771

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” requiring review by the Office of Management and Budget (OMB), unless OMB waives such review, as any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this Executive Order. The economic, interagency, budgetary, legal, and policy implications of this final rule have been examined, and it has been determined not to be a significant regulatory action under Executive Order 12866. Consistent with EO 13771 (82 FR 9339, February 3, 2017) we have estimated the cost savings for this proposed rule to be: $1,999,992. Therefore, this rule is expected to be an EO 13771 deregulatory action.

VA's impact analysis can be found as a supporting document at http://www.regulations.gov, usually within 48 hours after the rulemaking document is published. Additionally, a copy of the rulemaking and its impact analysis are available on VA's Web site at http://www.va.gov/orpm/, by following the link for VA Regulations Published From FY 2004 Through Fiscal Year to Date.

Unfunded Mandates

The Unfunded Mandates Reform Act of 1995 requires, at 2 U.S.C. 1532, that agencies prepare an assessment of anticipated costs and benefits before issuing any rule that may result in an expenditure by State, local, and tribal governments, in the aggregate, or by the private sector, of $100 million or more (adjusted annually for inflation) in any one year. This final rule will have no such effect on State, local, and tribal governments, or on the private sector.

Catalog of Federal Domestic Assistance

The Catalog of Federal Domestic Assistance program number and title for this rule are as follows: 64.007, Blind Rehabilitation Centers; 64.008, Veterans Domiciliary Care; 64.009, Veterans Medical Care Benefits; 64.010, Veterans Nursing Home Care; 64.011, Veterans Dental Care; 64.013, Veterans Prosthetic Appliances; 64.014, Veterans State Domiciliary Care; 64.015, Veterans State Nursing Home Care; 64.016, Veterans State Hospital Care; 64.018, Sharing Specialized Medical Resources; 64.019, Veterans Rehabilitation Alcohol and Drug Dependence; 64.022, Veterans Home Based Primary Care; and 64.024, VA Homeless Providers Grant and Per Diem Program.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on May 15, 2017, for publication.

List of Subjects in 38 CFR Part 60

Health care, Housing, Reporting and recordkeeping requirements, Travel, Veterans.

Dated: June 5, 2017.
Janet Coleman,
Chief, Office of Regulation Policy & Management, Office of the Secretary, Department of Veterans Affairs.

For the reasons set out in the preamble, VA amends 38 CFR part 60 as follows:

PART 60—FISHER HOUSES AND OTHER TEMPORARY HOUSING

1. The authority citation for part 60 continues to read as follows:

Authority: 38 U.S.C. 501, 1708, 1710(a) and as noted in specific sections.

§ 60.10 [Amended]

2. Amend § 60.10 by removing the word “application” once in paragraph (a) and twice in paragraph (c) introductory text and adding in its place the word “request”.

3. Amend § 60.15 by revising paragraphs (a) and (b)(1), (6), and (7) to read as follows:

§ 60.15 Process for requesting Fisher House or other temporary lodging

(a) Submitting requests. An accompanying individual requesting Fisher House or other temporary lodging must contact directly the provider, social worker, case manager, or Fisher House Manager at the veteran's VA health care facility of jurisdiction. Upon receiving a request, VA will determine the accompanying individual's eligibility for the requested housing, as provided in paragraph (b)(5) of this section.

(b) Processing requests. (1) Requests for all temporary housing are generally processed in the order that they are received by VA, and temporary lodging is then granted on a first come, first served basis; however, in extraordinary circumstances, such as imminent death, critical injury, or organ donation, requests may be processed out of order.

* * * * *

(6) If VA denies a request for one type of lodging, such as at a Fisher House, the request will be considered for other temporary lodging and vice versa, if the requester is eligible.

(7) If VA denies a request for temporary lodging, VA will refer the request to a VA social worker at the VA health care facility of jurisdiction to determine if other arrangements can be made.

* * * * *

[FR Doc. 2017-11888 Filed 6-7-17; 8:45 am]

BILLING CODE 8320-01-P